DEPARTMENT OF COMMERCE

United States Patent and Trademark Office

[Docket No. PTO-T-2011-0009]

Trademark Board Manual of Procedure, Third Edition

AGENCY: United States Patent and Trademark Office, Commerce.

ACTION: Notice.

SUMMARY: The United States Patent and Trademark Office (“USPTO”) issued the third edition of the Trademark Board Manual of Procedure (“TBMP”) on May 6, 2011.

ADDRESSES: The USPTO prefers that any suggestions for improving the form and content of the TBMP be submitted via electronic mail message to TBMPFederalRegisterComments@uspto.gov. Written comments may also be submitted by mail addressed to: Trademark Trial and Appeal Board, P.O. Box 1451, Alexandria, VA 22313-1451, marked to the attention of Angela Lykos, Administrative Trademark Judge and Editor, Trademark Board Manual of Procedure, or by hand delivery to the Trademark Assistance Center, Concourse Level, James Madison Building-East Wing, 600 Dulany Street, Alexandria, Virginia, marked to the attention of Angela Lykos, Administrative Trademark Judge and Editor, Trademark Board Manual of Procedure.

FOR FURTHER INFORMATION ON THIS NOTICE CONTACT: Angela Lykos, Administrative Trademark Judge, by electronic mail at: Angela.Lykos@uspto.gov; or by mail addressed to: Trademark Trial and Appeal Board, P.O. Box 1451, Alexandria, VA 22313-1451, marked to the attention of Angela Lykos. Do not use the Angela.Lykos@uspto.gov e-mail address to submit suggestions for improving the form or content of the TBMP. Instead, use the e-mail address noted above: TBMPFederalRegisterComments@uspto.gov.

SUPPLEMENTARY INFORMATION:

On May 6, 2011, the USPTO issued the third edition of the TBMP, which provides Trademark Trial and Appeal Board (“TTAB”) judges and attorneys, trademark applicants and registrants, and attorneys and representatives for trademark applicants and registrants a comprehensive reference on the practices and procedures for inter partes and ex parte proceedings before the TTAB. The guidance provided by the manual does not have the force and effect of law. Its guidelines have been developed as a matter of internal Office management and are not intended to create any right or benefit, substantive or procedural, enforceable by any party against the Office. While following the guidelines in the manual will aid parties and their attorneys in navigating the procedures applicable to inter partes cases, parties and their attorneys are also free to discuss and agree to various alternative processes that may prove more efficient and economical. These Accelerated Case Resolution options are discussed in various sections of the manual and current information on these options is available at the TTAB web page: http://www.uspto.gov/trademarks/process/appeal/index.jsp.

The third edition incorporates TTAB practice, changes to the Trademark Rules of Practice, the Federal Rules of Civil Procedure and Federal Rules of Evidence where relevant, and case law reported prior to November 15, 2010. The policies stated in this edition supersede any previous policies stated in prior editions or any other statement of USPTO policy, to the extent that there is any conflict. The TBMP may be viewed or downloaded free of charge from the TTAB home page of the USPTO Web site at the address noted above.

Dated: June 20, 2011.
David J. Kappos,
Under Secretary of Commerce for Intellectual Property and Director of the United States Patent and Trademark Office.

[FR Doc. 2011-16605 Filed 6-30-11; 8:45 am]

BILLING CODE 3510-16-P